DEPARTMENT OF STATE

[Public Notice 4604]

Shipping Coordinating Committee

SUMMARY: The U.S. Shipping Coordinating Committee (SHC) will conduct an open meeting at 10 a.m. on Tuesday, April 13, 2004 in Room 2415 at U.S. Coast Guard Headquarters, 2100 Second Street, SW., Washington, DC. The purpose of this meeting is to prepare for the Eighty-Eighth Session of the International Maritime Organization's (IMO) Legal Committee (LEG 88) scheduled from April 19, to April 23, 2004.

The provisional LEG 88 agenda calls for the Legal Committee to review the Convention for the Suppression of Unlawful Acts against the Safety of Maritime Navigation, 1988, and its Protocol of 1988 relating to Fixed Platforms Located on the Continental Shelf (SUA Convention and Protocol). Also the Committee will examine the draft Wreck Removal Convention. To be addressed as well is the Provision of Financial Security which includes a progress report on the work of the Joint IMO/ILO Ad Hoc Expert Working Group on Liability and Compensation regarding claims for Death, Personal Injury and Abandonment of Seafarers, and includes follow-up resolutions adopted by the International Conference on the Revision of the Athens Convention relating to the Carriage of Passengers and their Luggage by Sea, 1974. The Legal Committee will examine places of refuge, measures to protect crews and passengers against crimes committed on vessels, as well as monitoring of the implementation of the HNS Convention, access of news media to the proceedings of institutionalized committees, and matters arising from the twenty-second extraordinary session of the Council and the twenty-third regular session of the Assembly. Finally the committee will review technical cooperation: Subprogramme for maritime legislation in addition to allotting time to address any other issues that may arise on the Legal Committee's work program.

Members of the public are invited to attend the SHC meeting up to the seating capacity of the room. To facilitate the building security process, those who plan to attend should call or send an e-mail two days before the meeting. Upon request, participating by phone may be an option. For further information please contact Captain Joseph F. Ahern or Lieutenant Martha Rodriguez, at U.S. Coast Guard, Office of Maritime and International Law (G-LMI), 2100 Second Street, SW., Washington, DC 20593-0001; e-mail mrodriguez@comdt.uscg.mil, telephone (202) 267-1527; fax (202) 267-4496.

Dated: February 4, 2004.
Steve Poulin,
Executive Secretary, Shipping Coordinating Committee, Department of State.

[FR Doc. 04-3380 Filed 2-13-04; 8:45 am]

BILLING CODE 4710-07-P